DEPARTMENT OF THE INTERIOR

U.S. Geological Survey

Federal Geographic Data Committee (FGDC); Public Review of the NSDI Framework Transportation Identification Standard

ACTION: Notice; request for comments.

SUMMARY: The FGDC is conducting a public review of the draft NSDI Framework Transportation Identification Standard. An interagency team under the FGDC Ground Transportation Subcommittee developed this draft standard over several years and the FGDC Coordination Group comprised of representatives from Federal agencies approved releasing this standard for public review. The FGDC invites software vendors and data users and producers in public and private sectors to comment on this standard to ensure that the standard meets their needs.

Comments that address specific issues/changes/additions may result in revisions to the draft NSDI Framework Transportation Identification Standard. After comments have been evaluated, participants will receive notification of how their comments were addressed. After formal endorsement of the standard by the FGDC, the standard and a summary analysis of the changes will be made available to the public.

DATES: Comments must be received on or before July 20, 2001.

ADDRESSES: The draft standard may be downloaded via Internet address http://www.fgdc.gov/standards/status/sub5_7.html

Request for printed copies of the standard should be addressed to “NSDI Framework Transportation Identification Standard,” FGDC Secretariat (attn: Julie Binder Maitra), U.S. Geological Survey, 590 National Center, 12201 Sunrise Valley Drive, Reston, Virginia 20192 or facsimile 703-648-5755 or Internet at jmaitra@usgs.gov.

Reviewer's comments may be sent to FGDC via Internet mail to gdc-transportation@ www.fgdc.gov. Reviewer's comments may also be sent to the FGDC Secretariat at the above address. Please send one hardcopy version of the comments and a softcopy version on 3.5-inch diskette in Microsoft Word or Rich Text Format. All reviewers are strongly urged to use the template for sending comments that may be downloaded from Internet address http://www.fgdc.gov/standards/directives/dir2d.html

SUPPLEMENTARY INFORMATION: Following is information about the draft NSDI Framework Transportation Identification Standard, submitted by the FGDC Ground Transportation Subcommittee:

The proposed standard specifies methods for identifying linear geospatial features that can be implemented within existing data structures. The standard defines a transportation segment independent of cartographic representation, scale, network topology, and attributes that can change over time. The standard relates multiple cartographic and topological network database representations to uniquely identified transportation segments in the real world, and provides the domain for transferring application attributes across linear referencing and cartographic systems.

The model consists of a set of one-dimensional Framework Transportation Segments (FTSeg) that have zero-dimensional Framework Transportation Reference Points (FTRP) at their termini. FTRP and FTSeg are highly stable, unambiguously identified, and recoverable in the field. The standard specifies a mandatory set of attributes for each FTSeg and mandatory attributes for each FTRP.

The standard specifies a format for a unique identification code to be assigned to each FTSeg and each FTRP. It also specifies a process for assigning, modifying and recording FTRP and FTSeg identification codes, and proposes a national registry for their identification. Establishment of stable transportation segment identifies will facilitate the exchange of information, e.g., improved geospatial coordinates, feature attributes like road names, controls to various linear referencing methods mile points, or low and high address values, between databases.

This proposed standard has widespread applicability for public sector and commercial database developers and data users. It will facilitate data exchange among different users by providing well-defined common reference segments tied to the physical transportation feature, rather than to any cartographic or network abstraction of that feature. It will allow users to create customized topological networks from the reference segments without modifying the properties of the reference segments themselves, and to make transactional updates to framework transportation databases.

There has been no standard approach for documenting the relationship between a digitized transportation segment and the physical transportation feature that it represents. There has been no national standard for identifying, segmenting, or representing transportation segments in digital geospatial databases. Consequently, the exchange of attribute information between two different transportation databases representing the same geographic area is difficult, time consuming, and error prone.

Dated: April 11, 2001.
Karen Siderelis,
Geographic Information Officer.

[FR Doc. 01-9769 Filed 4-19-01; 8:45 am]

BILLING CODE 4310-Y7-M